INTERNATIONAL TRADE COMMISSION

[Investigation No. 337-TA-1318]

Certain Graphics Systems, Components Thereof, and Digital Televisions Containing the Same; Notice of Final Determination Finding a Violation of Section 337; Issuance of a Limited Exclusion Order and Cease and Desist Orders; Termination of Investigation

AGENCY: U.S. International Trade Commission.

ACTION: Notice.

SUMMARY: Notice is hereby given that the U.S. International Trade Commission has determined that respondents TCL Industries Holdings Co., Ltd. of Guangdong, China; TCL Industries Holdings (H.K.) Co. Limited of Hong Kong, China; TCL Electronics Holdings Ltd. f/k/a TCL Multimedia Technology Holdings, Ltd. of Hong Kong, China; TCL Technology Group Corporation of Guangdong, China; TTE Corporation of Hong Kong, China; TCL Holdings (BVI) Ltd. of Hong Kong, China; TCL King Electrical Appliances (Huizhou) Co. Ltd. of Guangdong, China; Shenzhen TCL New Technology Co., Ltd. of Guangdong, China; TCL MOKA International Ltd. of Hong Kong, China; TCL Smart Device (Vietnam) Co., Ltd. of Binh Duong Province, Vietnam; Manufacturas Avanzadas SA de CV of Chihuahua, Mexico; TCL Electronics Mexico, S de RL de CV of Benito Juarez, Mexico; TCL Overseas Marketing Ltd. of Hong Kong, China; TTE Technology, Inc. (“TTE Technology”) of Corona, California; and Realtek Semiconductor Corporation (“Realtek”) of Hsinchu, Taiwan (collectively, “Respondents”) have violated section 337 of the Tariff Act of 1930, as amended, by importing, selling for importation, or selling within the United States after importation certain graphics systems, components thereof, and digital televisions containing the same that infringe claims 19 and 20 of U.S. Patent No. 8,854,381 (“the '381 patent”). The Commission has determined that the appropriate remedies are a limited exclusion order (“LEO”) against the Respondents' infringing products and cease and desist orders (“CDOs”) against each of Respondents except for Realtek. The Commission has also determined to set no (0 percent) bond for importations of the excluded articles imported during the period of Presidential review. This investigation is hereby terminated.

FOR FURTHER INFORMATION CONTACT: Richard P. Hadorn, Esq., Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on June 7, 2022, based on a complaint filed by Advanced Micro Devices, Inc. of Santa Clara, California and ATI Technologies ULC of Ontario, Canada (together, “AMD”). 87 FR 34718-19 (June 7, 2022). The complaint, as supplemented, alleges violations of section 337 of the Tariff Act of 1930, as amended, 19 U.S.C. 1337 (“section 337”), based on certain graphics systems, components thereof, and digital televisions containing the same by reason of infringement of certain claims of U.S. Patent Nos. 7,742,053 (“the '053 patent”); 8,760,454 (“the '454 patent”); 11,184,628 (“the '628 patent”); 8,468,547 (“the '547 patent”); and the '381 patent. Id. at 34718. The complaint further alleges that a domestic industry (“DI”) exists. Id. The notice of investigation (“NOI”) named 14 of the respondents listed above (with the exception of TTE Technology). Id. at 34719, as amended, 87 FR 62452-53 (Oct. 14, 2022). The Office of Unfair Import Investigations is not named as a party to this investigation. 87 FR at 34719.

On August 4, 2022, the Commission terminated the investigation as to the '454 patent. See Order No. 10 (July 14, 2022), unreviewed by Comm'n Notice (Aug. 4, 2022).

On September 26, 2022, the Commission allowed TTE Technology to intervene in this investigation as an additional respondent. See Order No. 17 (Aug. 30, 2022), unreviewed by Comm'n Notice (Sept. 26, 2022).

On October 7, 2022, the Commission terminated the investigation as to claims 17-21 of the '547 patent and amended the complaint and NOI to correct the names of two respondents by changing “TCL Industries Holdings (H.K.) Limited” to “TCL Industries Holdings (H.K.) Co. Limited,” and “Shenzhen TCL New Technologies Co., Ltd.” to “Shenzhen TCL New Technology Co., Ltd.” See Order Nos. 23 (Sept. 20, 2022) and 24 (Sept. 20, 2022), unreviewed by 87 FR 62452-53 (Oct. 14, 2022). The corrected names of these respondents are included in the list of infringing respondents listed above.

On February 22, 2023, the Commission terminated the investigation as to the '547 patent. See Order No. 56 (Jan. 24, 2023), unreviewed by Comm'n Notice (Feb. 22, 2023). On March 7, 2023, the Commission terminated the investigation as to claims 1-4 and 7 of the '053 patent and claims 8, 11, and 12 of the '628 patent. See Order No. 64 (Feb. 7, 2023), unreviewed by Comm'n Notice (Mar. 7, 2023).

On March 15, 2023, the Commission granted summary determination that the economic prong of the DI requirement has been satisfied in this investigation as to the remaining asserted patents—i.e., the '053, '628, and '381 patents. See Order No. 62 (Feb. 6, 2023), aff'd by Comm'n Notice (Mar. 15, 2023).

On March 30, 2023, the Commission terminated the investigation as to claim 8 of the '053 patent and claim 18 of the '381 patent. See Order No. 70 (Mar. 14, 2023), unreviewed by Comm'n Notice (Mar. 30, 2023). On April 19, 2023, the Commission terminated the investigation as to the '628 patent. See Order No. 72 (Apr. 3, 2023), unreviewed by Comm'n Notice (Apr. 19, 2023).

On July 7, 2023, the administrative law judge issued a final initial determination (“ID”) on violation, which included a recommended determination (“RD”) on remedy and bonding. The ID finds no violation of section 337 as to the '053 patent, but does find a violation as to claims 19 and 20 of the '381 patent. The RD recommends that, should the Commission determine that a violation of section 337 has occurred, the Commission should: (i) issue an LEO against the Respondents' infringing products; (ii) issue a CDO against each of Respondents except for Realtek and TTE Technology; and (iii) issue no (0 percent) bond for importations of infringing products during the period of Presidential review.

On October 16, 2023, the Commission determined to review the final ID in part. 88 FR 72537-39 (Oct. 20, 2023). Specifically, the Commission determined to review the ID's infringement finding regarding claim 19 of the '381 patent. Id. at 72538. The Commission also determined to review and, on review, take no position on the ID's findings regarding the ALJ's construction of limitation 5[c] (“a plurality of command processing engines, coupled to the arbiter, each operable to receive and process the command thread”) of claim 5 of the '053 patent, as well as infringement and satisfaction of the technical prong of the DI requirement with respect to limitation 5[c]. Id. The Commission further determined not to review the remaining findings in the ID. Id. The Commission's notice requested written submissions on the issue under review, as well as on remedy, the public interest, and bonding. Id.

The Commission did not receive submissions on the public interest from the parties pursuant to Commission Rule 210.50(a)(4), 19 CFR 210.50(a)(4). The Commission also did not receive any submissions on the public interest from members of the public in response to the Commission's Federal Register notice. See 88 FR 48262-63 (July 26, 2023).

On October 30, 2023, AMD and Respondents each filed initial briefs with written submissions on the issue under review as well as on remedy, the public interest, and bonding. On November 6, 2023, AMD and Respondents each filed reply briefs.

The Commission, having reviewed the record in this investigation, including the final ID, the parties' petitions and responses thereto, and the parties' briefs on remedy, the public interest, and bonding, has determined that Respondents have violated section 337 by importing, selling for importation, or selling within the United States after importation certain graphics systems, components thereof, and digital televisions containing the same that infringe claims 19 and 20 of the '381 patent. Specifically, the Commission affirms with modification the ID's finding that AMD has proven that the Accused Products practice claim 19 of the '381 patent to include supplemental findings and evidence.

The Commission has determined that the appropriate remedy is: (i) an LEO prohibiting the importation of certain graphics systems, components thereof, and digital televisions containing the same that infringe one or more of claims 19 and 20 of the '381 patent; and (ii) CDOs against each of the Respondents except for Realtek. The Commission has also determined that the public interest factors do not preclude issuance of the remedial orders. The Commission has further determined to set no (0 percent) bond for importations of the excluded articles imported during the period of Presidential review (19 U.S.C. 1337(j)).

The Commission issues its opinion herewith setting forth its determinations on certain issues. This investigation is hereby terminated.

The Commission's orders and opinion were delivered to the President and United States Trade Representative on the day of their issuance.

The Commission vote for this determination took place on January 24, 2024.

The authority for the Commission's determination is contained in section 337 of the Tariff Act of 1930, as amended (19 U.S.C. 1337), and in part 210 of the Commission's Rules of Practice and Procedure (19 CFR part 210).

By order of the Commission.
Issued: January 24, 2024.
Lisa Barton,
Secretary to the Commission.

[FR Doc. 2024-01753 Filed 1-29-24; 8:45 am]

BILLING CODE 7020-02-P